ENVIRONMENTAL PROTECTION AGENCY

40 CFR Part 52

[EPA-R03-OAR-2014-0525; FRL-9926-79-Region 3]

Approval and Promulgation of Air Quality Implementation Plans; Pennsylvania; Redesignation of the Harrisburg-Lebanon-Carlisle-York Nonattainment Areas to Attainment for the 1997 Annual and the 2006 24-Hour Fine Particulate Matter Standard; Correction

AGENCY: Environmental Protection Agency (EPA).

ACTION: Final rule; correcting amendment.

SUMMARY: This document corrects errors in the rule language of a final rule pertaining to the Commonwealth of Pennsylvania's requests to redesignate to attainment the Harrisburg-Lebanon-Carlisle and York nonattainment areas for the 1997 annual fine particulate matter (PM2.5) national ambient air quality standard (NAAQS) and the Harrisburg-Lebanon-Carlisle-York 2006 24-hour PM2.5 NAAQS nonattainment area, which was published in the Federal Register on Tuesday, December 8, 2014 (79 FR 72552).

DATES: This document is effective on April 28, 2015.

FOR FURTHER INFORMATION CONTACT: Rose Quinto, (215) 814-2182 or by email at quinto.rose@.epa.gov.

SUPPLEMENTARY INFORMATION: On December 8, 2014, (79 FR 72552), the Environmental Protection Agency (EPA) published a final rulemaking action announcing the approval of Pennsylvania's requests to redesignate to attainment the Harrisburg-Lebanon-Carlisle and York nonattainment areas for the 1997 annual PM2.5 NAAQS and the Harrisburg-Lebanon-Carlisle-York 2006 24-hour PM2.5 NAAQS nonattainment area.

Need for Correction

As published, the final redesignation contains errors. EPA inadvertently did not include a table for the 2017 and 2025 PM2.5 and nitrogen oxides (NOX) motor vehicle emissions budgets (MVEBs) for the 1997 annual PM2.5 NAAQS for Lebanon County. The Harrisburg-Lebanon-Carlisle Area is comprised of Cumberland, Dauphin and Lebanon Counties. This action corrects the title of the table entitled, “Harrisburg-Lebanon-Carlisle Area's Motor Vehicle Emissions Budget for the 1997 Annual PM2.5 NAAQS in tons per year,” to add “for Cumberland and Dauphin Counties” and adds a table for the 2017 and 2025 PM2.5 and NOX MVEBs for the 1997 annual PM2.5 NAAQS for Lebanon County.

List of Subjects in 40 CFR Part 52

Environmental protection, Air pollution control, Incorporation by reference, Nitrogen oxides, Ozone, Particulate matter, Reporting and recordkeeping requirements, Sulfur oxides, Volatile organic compounds.

Dated: April 16, 2015.
William C. Early,
Acting Regional Administrator, EPA Region III.

Accordingly, 40 CFR part 52 is corrected by making the following correcting amendments:

PART 52—APPROVAL AND PROMULGATION OF IMPLEMENTATION PLANS

1. The authority citation for part 52 continues to read as follows:

Authority: 42 U.S.C. 7401 et seq.

Subpart NN—Pennsylvania

2. Section 52.2059 paragraph (k) is amended:

a. In the table heading by revising the heading to the second table; and

b. By adding a third table at end of paragraph (k).

The revision and addition read as follows:

§ 52.2059 Control strategy: Particular matter.

* * * * *

(k) * * *

Harrisburg-Lebanon-Carlisle Area's Motor Vehicle Emission Budgets for Cumberland and Dauphin Counties for the 1997 Annual PM2.5 NAAQS in Tons per Year

* * * * *

Harrisburg-Lebanon-Carlisle Area's Motor Vehicle Emission Budgets for Lebanon County for the 1997 Annual PM2.5 NAAQS in Tons per Year
Type of control strategy SIP | Year | PM2.5 | NOX | Effective date of SIP approval
Maintenance Plan | 2017 | 76 | 2,252 | 12/08/14
| 2025 | 52 | 1,446 | 12/08/14

* * * * *

[FR Doc. 2015-09771 Filed 4-27-15; 8:45 am]

BILLING CODE 6560-50-P